DEPARTMENT OF HEALTH AND HUMAN SERVICES

Administration for Children and Families

[CFDA NUMBER: 93.568]

Reallotment of Fiscal Year 2019 Funds for the Low Income Home Energy Assistance Program (LIHEAP)

AGENCY: Division of Energy Assistance (DEA), Office of Community Services (OCS), Administration for Children and Families (ACF), Department of Health and Human Services (HHS).

ACTION: Notice of public comment.

SUMMARY: Notice is hereby given of a preliminary determination that funds from the fiscal year (FY) 2019 Low Income Home Energy Assistance Program (LIHEAP) are available for reallotment to states, territories, tribes, and tribal organizations that received FY 2020 direct LIHEAP grants. No subgrantees or other entities may apply for these funds.

DATES: Submit comments on or before October 5, 2020.

ADDRESSES: Comments may be submitted to: Peter Edelman, Program Analyst, Division of Energy Assistance, Office of Community Services, Administration for Children and Families, Department of Health and Human Services, via email: peter.edelman@acf.hhs.gov.

FOR FURTHER INFORMATION CONTACT: Akm Rahman, Operations Branch Chief, Division of Energy Assistance, Office of Community Services, Administration for Children and Families, Department of Health and Human Services, via email: akm.rahman@acf.hhs.gov.

SUPPLEMENTARY INFORMATION: According to Section 2607(b)(1) of the Low Income Home Energy Assistance Act, (42 U.S.C. 8626(b)(1)), if the Secretary of HHS determines as of September 1, of any fiscal year, an amount in excess of 10 percent of the amount awarded to a grantee for that fiscal year (excluding Leveraging and REACH funds) will not be used by the grantee during that fiscal year, then the Secretary must notify the grantee and publish a notice in the Federal Register that such funds may be reallotted to LIHEAP grantees during the following fiscal year. If reallotted, the LIHEAP block grant allocation formula will be used to distribute the funds. No funds may be allotted to entities that are not direct LIHEAP grantees during FY 2020. It has been determined that $948,485 in LIHEAP funds may be available for reallotment during FY 2020. This determination is based on FY 2019 Carryover and Reallotment Reports submitted by FY 2019 LIHEAP grantees showing 12 grantees as having funds available for reallotment. These grantees include 2 states and 10 tribes, which are listed in the table below. Grantees submitted the FY 2019 Carryover and Reallotment Reports to the OCS, as required by regulations applicable to LIHEAP at 45 CFR 96.81(b). After publication of this notice DEA will redetermine the final reallotment amounts and make adjustments where necessary.

The LIHEAP statute allows grantees who have funds unobligated at the end of the federal fiscal year for which they are awarded to request that they be allowed to carry over up to 10 percent of their full-year allotments to the next federal fiscal year. Funds in excess of this amount must be returned to HHS and are subject to reallotment under section 2607(b)(1) of the Low Income Home Energy Assistance Act, (42 U.S.C. 8626(b)(1)). The amount described in this notice was reported by grantees as unobligated FY 2019 funds in excess of the amount that these grantees could carry over to FY 2020. In accordance with section 2607(b)(3) of the Act (42 U.S.C. 8626(b)(3)), HHS has notified each grantee of any balance that will be de-obligated for purpose of this anticipated reallotment and has given 30 days to provide comments directly to HHS. Public comments will be accepted for a period of 30 days from the date of publication of this notice.

All current LIHEAP grantees will be notified of the final reallotment amount redistributed to them for obligation in FY 2020. This decision will also be published in the Federal Register and in a Dear Colleague Letter that is posted to ACF's website at https://www.acf.hhs.gov/ocs/resource/dear-colleagues.

If funds are reallotted, they will be allocated in accordance with section 2604 of the Act (42 U.S.C. 8623) and must be treated by LIHEAP grantees receiving them as an amount appropriated for FY 2020. As FY 2020 funds, they will be subject to all requirements of the Act, including section 2607(b)(2) (42 U.S.C. 8626(b)(2)), which requires that a grantee obligate at least 90 percent of its total block grant allocation for a fiscal year by the end of the fiscal year for which the funds are appropriated, that is, by September 30, 2020.

Estimated Reallotment Amounts of FY 2019 LIHEAP Funds
Grantee name | Grantee reported reallotment amount | Amount available for redistribution
Ohio | $206,951 | $206,951
Utah | 540,516 | 540,516
Chippewa Cree Tribe | 13,302 | 13,302
Coeur d'Alene Tribe | 1,328 | 1,328
Colorado River Indian Tribes | 595 | 595
Hoh Indian Tribe | 2,472 | 0
Karuk Tribe | 9,337 | 9,337
Little River Band of Ottawa Indians | 32,069 | 3,247
Northern Cheyenne Tribe | 5,704 | 5,704
Paiute Tribe of Utah | 95,125 | 95,125
Quinault Indian Nation | 1,285 | 7
Sac and Fox Nation of Oklahoma | 30,768 | 30,767
Sitka Tribe | 41,606 | 41,606
Total | 981,058 | 948,485

Statutory Authority: 42 U.S.C. 8626.

Karen Shields,
Senior Grants Policy Specialist, Office of Grants Policy.

[FR Doc. 2020-19578 Filed 9-3-20; 8:45 am]

BILLING CODE 4184-80-P